DEPARTMENT OF THE INTERIOR

Fish and Wildlife Service

50 CFR Parts 13 and 23

RIN 1018-AD87

Revision of Regulations for the Convention on International Trade in Endangered Species of Wild Fauna and Flora (CITES)

Correction

In proposed rule document 06-3444 beginning on page 20168 in the issue of Wednesday, April 19, 2006, make the following corrections:

§ 13.11 [Corrected]

1. On page 20213, in § 13.11, the table being reprinted in its entirety to read as follows:

Type of permit | Citation | Fee | Amendment fee
* * * * * * *
Endangered Species Act/CITES/Lacey Act
* * * * * * *
CITES Introduction from the Sea | 50 CFR 23 | 100 | 50
CITES Participation in the Plant Rescue Center Program | 50 CFR 23 | (¹) | (¹)
CITES Registration of Appendix-I Commercial Breeding Operations | 50 CFR 23 | 100
CITES Request for Approval of an Export program for a State or Tribe (American Ginseng, Certain Furbearers, and American Alligator) | 50 CFR 23 | (¹) | (¹)
* * * * * * *

§ 23.2 [Corrected]

2. On page 20217, in § 23.2, the table is being reprinted in its entirety to read as follows:

Question on proposed activity | Answer and action
(a) Is the wildlife or plant species (including parts, products, derivatives, whether wild-collected, or born or propagated in a controlled environment) Listed in Appendix I, II, or III of CITES (see § 23.91)? | (1) YES. Continue to paragraph (b) of this section. (2) NO. The regulations in this part do not apply.
(b) Is the wildlife or plant specimen exempted from CITES (see § 23.92)? | (1) YES. The regulations in this part do not apply. (2) NO. Continue to paragraph (c) of this section.
(c) Do you want to import, export, re-export, engage in international trade, or introduce from the sea? | (1) YES. The regulations in this part apply. (2) NO. Continue to paragraph (d) of this section.
(d) Was the specimen that you possess or want to enter into intrastate or interstate commerce unlawfully acquired, illegally traded, or otherwise subject to conditions set out on a CITES document that authorized import? | (1) YES. The regulations in this part apply. See § 23.13(c) and (d) and sections 9(c)(1) and 11(a) and (b) of the ESA (16 U.S.C. 1538(c)(1) and 1540(a) and (b)). (2) NO. The regulations in this part do not apply.

§ 23.6 [Corrected]

3. On pages 20219 and 20220, in § 23.6, the table is being reprinted in its entirety to read as follows:

Roles | U.S. Scientific Authority | U.S. Management Authority
(a) Provide scientific advice and recommendations, including advice on biological findings for applications for certain CITES documents, registrations, and export program approvals. Evaluate the conservation status of species to determine if a species listing or change in a listing is warranted. Interpret listings and review nomenclatural issues. | x
(b) Review applications for CITES documents and issue or deny them based on findings required by CITES. |  | x
(c) Communicate with the Secretariat and other countries on scientific, administrative, and enforcement issues. | x | x
(d) Ensure that export of Appendix-II specimens is at a level that maintains a species throughout its range at a level consistent with its role in the ecosystems in which it occurs and well above the level at which it might become eligible for inclusion in Appendix I. | x
(e) Monitor trade in all CITES species and produce annual reports on CITES trade. |  | x
(f) Collect the cancelled foreign export permit or re-export certificate and any corresponding import permit presented for import of any CITES specimen. Collect a copy of the validated U.S. export permit or re- export certificate presented for export or re-export of any CITES specimen. |  | x
(g) Produce biennial reports on legislative, regulatory, and administrative measures taken by the United States to enforce the provisions of CITES. |  | x
(h) Coordinate with State and tribal governments and other Federal agencies on CITES issues, such as the status of native species, development of policies, negotiating positions, and law enforcement activities. | x | x
(i) Communicate with the scientific community, the public, and media about CITES issues. Conduct public meetings and publish notices to gather input from the public on the administration of CITES and the conservation and trade status of domestic and foreign species traded internationally. | x | x
(j) Represent the United States at the meetings of the CoP, on committees (see subpart G of this part), and on CITES working groups. Consult with other countries on CITES issues and the conservation status of species. Prepare discussion papers and proposals for new or amended resolutions and species listings for consideration at the CoP. | x | x
(k) Provide assistance to APHIS and CBP for the enforcement of CITES. Cooperate with enforcement officials to facilitate the exchange of information between enforcement bodies and for training purposes. | x | x
(l) Provide financial and technical assistance to other governmental agencies and CITES officials of other countries. | x | x

§ 23.7 [Corrected]

4. On pages 20220 and 20221, in § 23.7, the second table is being reprinted in its entirety to read as follows:

Type of information | Office to contact
(a) CITES administrative and management issues: (1) CITES documents, including application forms and procedures; list of registered scientific institutions and bred-in-captivity operations; and reservations (2) Information on the CoP (3) List of CITES species (4) Names and addresses of other countries' Management and Scientific Authority offices (5) Notifications, resolutions, and decisions (6) Standing Committee documents and issues (7) State and tribal export programs | U.S. Management Authority, U.S. Fish and Wildlife Service, 4401 North Fairfax Drive, Room 700, Arlington, Virginia 22203, Toll Free: (800) 358-2104/permit questions, Tel: (703) 358-2095/other questions, Fax: (703) 358-2281/permits, Fax: (703) 358-2298/other issues, E-mail: managementauthority@fws.gov, Web site: http://www.fws.gov/international and http://www.fws.gov/permits.
(b) Scientific issues: (1) Animals and Plants Committees documents and issues (2) Findings of non-detriment and suitability of facilities, and other scientific findings (3) Listing of species in the Appendices and relevant resolutions (4) Names and addresses of other countries' Scientific Authority offices and scientists involved with CITES-related issues (5) Nomenclatural issues | U.S. Scientific Authority, U.S. Fish and Wildlife Service, 4401 North Fairfax Drive, Room 750, Arlington, Virginia 22203, Tel: (703) 358-1708, Fax: (703) 358-2276, E-mail: scientificauthority@fws.gov, Web site: http://www.fws.gov/international.
(c) Wildlife clearance procedures: (1) CITES replacement tags (2) Information about wildlife port office locations (3) Information bulletins (4) Inspection and clearance of wildlife shipments involving import, introduction from the sea, export, and re-export, and filing a Declaration of Importation or Exportation of Fish or Wildlife (Form 3-177) (5) Validation, certification, or cancellation of CITES wildlife documents | Law Enforcement, U.S. Fish and Wildlife Service, 4401 North Fairfax Drive, Mail Stop LE-3000, Arlington, Virginia 22203, Tel: (703) 358-1949, Fax: (703) 358-2271, Web site: http://www.fws.gov/le.
(d) APHIS plant clearance procedures: (1) Information about plant port office locations (2) Inspection and clearance of plant shipments involving: (i) Import and introduction from the sea of living plants (ii) Export and re-export of living and nonliving plants (3) Validation or cancellation of CITES plant documents for the type of shipments listed in paragraph (d) of this section | U.S. Department of Agriculture APHIS/PPQ, 4700 River Road, Riverdale, Maryland 20737-1236, Toll Free: (877) 770-5990/permit questions, Tel: (301) 734-5312/other CITES issues, Fax: (301) 734-5786/permit questions, Fax: (301) 734-4300/other CITES issues, Web site: http://www.aphis.usda.gov/ppq.
(e) CBP plant clearance procedures: (1) Inspection and clearance of plant shipments involving: (i) Import and introduction from the sea of nonliving plants (ii) Import of living plants from Canada at designated border ports (7 CFR 319.37-14(b) and 50 CFR 24.12(d)) (2) Cancellation of CITES plant documents for the type of shipments listed in paragraph (e)(1) of this section | Department of Homeland Security, U.S. Customs and Border Protection, Office of Field Operations, Agricultural Inspection Policy and Planning, 1300 Pennsylvania Avenue, NW., Room 5.4 C, Washington, DC 20229, Tel: (202) 344-3298, Fax: (202) 344-1442.
(f) General information on CITES: (1) CITES export quota information (2) CITES Guidelines for Transport (3) Information about the Secretariat (4) Names and addresses of other countries' Management and Scientific Authority offices (5) Official documents, including resolutions, decisions, notification, CoP documents, and committee documents (6) Official list of CITES species and species database (7) Text of the Convention | CITES Secretariat, Web site: http://www.cites.org.

§ 23.15 [Corrected]

5. On pages 20221 and 20222, in § 23.15, the second table is being reprinted in its entirety to read as follows:

Major group | Species (Appendix II only) | Type of specimen | Quantity¹
Fishes | (i) Acipenseriformes (sturgeon, including paddlefish) | Sturgeon caviar (see § 23.71) | 250 gm
| (ii) Hippocampus spp. (seahorses) | Dead specimens, parts, products (including manufactured items), and derivatives | 4
Reptiles | (iii) Crocodylia (alligators, caimans, crocodiles, gavial) | Dead specimens, parts, products (including manufactured items), and derivatives | 4
Molluscs | (iv) Strombus gigas (queen conch) | Shells | 3
| (v) Tridacnidae (giant clams) | Shells, each of which may be one intact shell or two matching halves | 3 shells, total not exceeding 3 kg
Plants | (vi) Cactaceae (cacti) | Rainsticks | 3
¹ To import, export, or re-export more than the quantity listed in the table, you must have a valid CITES document for the entire quantity.

§ 23.20 [Corrected]

6. On page 20225, in § 23.20, the table is being reprinted in its entirety to read as follows:

Type of specimen or activity | Appendix | CITES exemption document | Section
(1) Artificially propagated plant (see paragraph (d)(4) of this section for an Appendix-I plant propagated for commercial purposes) | I, II, or III | CITES document with source code “A” ¹ | 23.40
(2) Artificially propagated plant from a country that has provided copies of the certificates, stamps, and seals to the Secretariat | II or III | Phytosanitary certificate with CITES statement ¹ | 23.23(f)
(3) Bred-in-captivity wildlife (see paragraph (d)(5) of this section for Appendix-I wildlife bred for commercial purposes) | I, II, or III | CITES document with source code “C” ¹ | 23.41
(4) Commercially propagated Appendix-I plant | I | CITES document with source code “D”¹ | 23.47
(5) Commercially bred Appendix-I wildlife from a breeding operation registered with the CITES Secretariat | I | CITES document with source code “D” ¹ | 23.46
(6) Export of certain marine specimens protected under a pre-existing treaty, convention, or international agreement for that species | II | CITES document indicating that the specimen was taken in accordance with provisions of the applicable treaty, convention, or international agreement | 23.36(e) 23.39(e)
(7) Hybrid of plants | I, II, or III | CITES document | 23.42
(8) Hybrid of wildlife | I, II, or III | CITES document or certification letter from a Management Authority ¹ | 23.43
(9) In-transit shipment (see paragraph (d)(13) of this section for sample collections covered by an ATA carnet) | I, II, or III | CITES document designating importer and country of final destination | 23.22
(10) Introduction from the sea under a pre-existing treaty, convention, or international agreement for that species | II | Document required by applicable treaty, convention, or international agreement, if appropriate | 23.39(d)
(11) Noncommercial loan, donation, or exchange of specimens between scientific institutions registered with the CITES Secretariat | I, II, or III | A label indicating CITES and the registration codes of both institutions and, in the United States, a CITES certificate of scientific exchange that registers the institution ³ | 23.48
(12) Personally owned live wildlife for multiple cross-border movement | I, II, or III | CITES certificate of ownership ² | 23.44
(13) Pre-Convention specimen | I, II, or III | CITES document indicating pre-Convention status ¹ | 23.45
(14) Sample collection covered by an ATA carnet | I ⁴ , II, or III | CITES document indicating sample collection ² | 23.50
(15) Traveling exhibition | I, II, or III | CITES document indicating pre-Convention, bred-in-captivity, or artificially propagated status ² | 23.49
¹ Issued by the Management Authority in the exporting or re-exporting country.
² Issued by the Management Authority in the owner's country of usual residence.
³ Registration codes assigned by the Management Authorities in both exporting and importing countries.
⁴ Appendix-I species bred-in-captivity or artificially propagated for commercial purposes (see §§ 23.46 and 23.47).

7. On page 20226, in the same section, the first table is being reprinted in its entirety to read as follows:

Appendix | Type of CITES document(s) required
I | Import permit (§ 23.35) and export permit (§ 23.36) or re-export certificate (§ 23.37).
II | Export permit (§ 23.36) or re-export certificate (§23.37).
III | Export permit if the specimen originated in a country that listed the species; certificate of origin (§ 23.38) if the specimen originated in a country other than the listing country, unless the listing annotation indicates otherwise; or re-export certificate for all re-exports (§ 23.37).

§ 23.21 [Corrected]

8. On the same page, in § 23.21, the second table is being reprinted in its entirety to read as follows:

If | Then
(1) The shipment is between a Party and a reserving Party, or the shipment is from a non-Party to a reserving party and is in transit through a Party | The shipment must be accompanied by a valid CITES document(s) (see § 23.26) that indicates the CITES Appendix in which the species is listed.
(2) The shipment is from a reserving Party to another reserving Party ¹ or non-Party and is in transit through a Party | The shipment must be accompanied by a valid CITES document (see § 23.26) that indicates the CITES Appendix in which the species is listed.²
(3) The shipment is between a reserving Party and another reserving Party ¹ or non-Party and is not in transit through a Party | No CITES document is required.²
¹ Both reserving Parties must have a reservation for the same species, and if the species is listed in Appendix III, a reservation for the same parts, products, and derivatives.
² CITES recommends that reserving Parties treat Appendix-I species as if listed in Appendix II and issue CITES documents based on Appendix-II permit criteria (see § 23.36). However, the CITES document must show the specimen as listed in Appendix I. If the United States entered a reservation, such a CITES document would be required.

§ 23.23 [Corrected]

9. On pages 20227 and 20228, in § 23.23, the table is being reprinted in its entirety to read as follows:

Required information | Description
(1) Appendix | The CITES Appendix in which the species, subspecies, or population is listed (see § 23.21 when a Party has taken a reservation on a listing).
(2) Applicant's signature | The applicant's signature if the CITES document includes a place for it.
(3) Bill of lading, air waybill, or flight number | As applicable for export or re-export: (i) by ocean or air cargo, the bill of lading or waybill number, or (ii) in accompanying baggage, the flight number, as recorded on the CITES document by the inspecting official at the port, if known at the time of validation or certification.
(4) Dates | Date of issue and date of expiration (“valid until” date on the standardized CITES form), which is midnight of the date on the CITES document. See § 23.54 for the length of validity for different types of CITES documents.
(5) Description of the specimen | A complete description of the specimen, including whether live or the type of goods. The sex and age of a live specimen should be recorded, if possible. Such information must be in English, Spanish, or French on a CITES document from a Party. If a code is used to indicate the type of specimen, it must agree with the Guidelines for preparation and submission of CITES annual reports available from the CITES website or us.
(6) Document number | A unique control number. We use a unique 12-character number. The first two characters are the last two digits of the year of issuance, the next two are the two-letter ISO country code, followed by a six-digit serial number, and two digits or letters used for national informational purposes.
(7) Humane transport of live wildlife | If the CITES document authorizes the export or re-export of live wildlife, a statement that the document is valid only if the transport conditions comply with the CITES Guidelines for Transport (available from the CITES website), or, in the case of air transport of wildlife, with the International Air Transport Association Live Animals Regulations. The shipment must comply with the requirements of the Live Animals Regulations (LAR), 32nd edition, October 1, 2005, by the International Air Transport Association (IATA), Reference Number: 9105-32, ISBN 92-9195-560-4.¹
(8) Identification of the specimen | Any unique identification number or mark (such as a tag, band, ring, microchip, label, or serial number), including any mark required under these regulations or a CITES listing annotation. For a microchip, the microchip code, trademark of the transponder manufacturer and, where possible, the location of the microchip in the specimen. If a microchip is used, we may, if necessary, ask the importer, exporter, or re-exporter to have equipment on hand to read the microchip at the time of import, export, or re-export.
(9) Management Authority | The complete name and address of the issuing Management Authority as included in the CITES directory, which is available from the CITES website or us.
(10) Name and address | The complete name and address, including country, of the exporter and importer.
(11) Purpose of transaction | The purpose of the transaction, if possible, using one of the codes given in paragraph (d) of this section. The code is determined by the issuing Management Authority through information submitted with an application. This is not required for a certificate of origin.
(12) Quantity | The quantity of specimens authorized in the shipment and, if appropriate, the unit of measurement using the metric system: (i) The unit of measurement should be appropriate to the type of specimen and agree with the Guidelines for the preparation and submission of CITES annual reports available from the CITES website or us. General descriptions such as “one case” or “one batch” are not acceptable. (ii) Weight should be in kilograms. If weight is used, net weight (weight of the specimen alone) must be stated, not gross weight that includes the weight of the container or packaging. (iii) Volume should be in cubic meters for logs and sawn wood and either square meters or cubic meters for veneer and plywood. (iv) For re-export, if the type of good has not changed since being imported, the same unit of measurement as on the export permit must be used, except to change to units that are to be used in the CITES annual report.
(13) Scientific name | The scientific name of the species, including the subspecies when needed to determine the level of protection of the specimen under CITES, using standard nomenclature as it appears in the CITES Appendices or the references adopted by the CoP. A list of current references is available from the CITES website or us. A CITES document may contain higher-taxon names in lieu of the species name only under one of the following circumstances: (i) The CoP has agreed that the use of a higher-taxon name is acceptable for use on CITES documents. (A) If the genus cannot be readily determined for coral rock, the scientific name to be used is the order Scleractinia. (B) Live and dead coral must be identified to the level of species except where the CoP has agreed that identification to genus is acceptable. A current list of coral taxa identifiable to genus is available from the CITES website or us. (C) Re-export of worked skins or pieces of Tupinambis species that were imported before August 1, 2000, may indicate Tupinambis spp. (ii) The issuing Party can show the use of a higher-taxon name is well justified and has communicated the justification to the Secretariat. (iii) The item is a pre-Convention manufactured product containing a specimen that cannot be identified to the species level.
(14) Seal or stamp | The embossed seal or ink stamp of the issuing Management Authority.
(15) Security stamp | If a Party uses a security stamp, the stamp must be canceled by an authorized signature and a stamp or seal, preferably embossed. The number of the stamp must also be recorded on the CITES document.
(16) Signature | An original handwritten signature of a person authorized to sign CITES documents for the issuing Management Authority. The signature must be on file with the Secretariat.
(17) Signature name | The name of the person who signed the CITES document.
(18) Source | The source of the specimen. For re-export, unless there is information to indicate otherwise, the source code on the CITES document used for import of the specimen must be used. See § 23.24 for a list of codes.
(19) Treaty name | Either the full name or acronym of the Treaty, or the CITES logo.
(20) Type of CITES document | The type of CITES document (import, export, re-export, or other): (i) If marked “other,” the CITES document must indicate the type of document, such as artificially propagated, bred-in-captivity, certificate of origin, certificate of ownership, introduction from the sea, pre-Convention, sample collection covered by an ATA carnet, scientific exchange, or traveling exhibition. (ii) If multiple types are authorized on one CITES document, the type that applies to each specimen must be clearly indicated.
(21) Validation or certification | The actual quantity of specimens exported or re-exported: (i) Using the same units of measurement as those on the CITES document. (ii) Validated or certified by the stamp or seal and signature of the inspecting authority at the time of export or re-export.
¹ The incorporation by reference of the IATA LAR was approved by the Director of the Office of the Federal Register in accordance with 5 U.S.C. 552(a) and 1 CFR part 51. Copies may be obtained from IATA, 800 Place Victoria, P.O. Box 113, Montreal, Quebec, Canada H4Z 1M1, by calling 1-800-716-6326, or ordering through the Internet at http://www.iata.org. Copies may be inspected at the U.S. Management Authority or at the Office of the Federal Register, 800 North Capitol Street, NW., Suite 700, Washington, DC.

10. On page 20228, in the same section, the second table is being reprinted in its entirety to read as follows:

Code | Purpose of transaction
B | Breeding in captivity or artificial propagation.
E | Education.
G | Botanical garden.
H | Hunting trophy.
L | Law enforcement/judicial/forensic.
M | Medical research (including biomedical research).
N | Reintroduction or introduction into the wild.
P | Personal.
Q | Circus and traveling exhibition.
S | Scientific.
T | Commercial.
Z | Zoo.

11. On page 20229, in the same section, the second table is being reprinted in its entirety to read as follows:

Type of document | Additional required information
(1) Annex (such as an attached inventory, conditions, or continuation pages of a CITES document) | The page number, document number, and date of issue on each page of an annex that is attached as an integral part of a CITES document. The signature and ink stamp or seal, preferably embossed, of the Management Authority issuing the CITES document must also be included on each page of the annex. The CITES document must indicate an attached annex and the total number of pages.
(2) Certificate of origin (see § 23.38) | A statement that the specimen originated in the country that issued the certificate.
(3) Copy when used in place of the original CITES document | (i) Information required in paragraph (e)(7) of this section when the document authorizes export or re-export. (ii) A statement by the Management Authority on the face of the document authorizing the use of a copy when the document authorizes import.
(4) Export permit for a registered commercial breeding operation or nursery—Appendix-I specimens (see § 23.46) | The registration number of the operation or nursery assigned by the Secretariat, and if the exporter is not the registered operation or nursery, the name of the registered operation or nursery.
(5) Export permit with a quota | Number of specimens, such as 500/1,000, that were: (i) Exported thus far in the current calendar year, including those covered by the current permit (such as 500), and (ii) Included in the current annual quota (such as 1,000).
(6) Import permit (Appendix-I specimen) (see § 23.35) | A certification that the specimen will not be used for primarily commercial purposes and, for a live specimen, that the recipient has suitable facilities and expertise to house and care for it.
(7) Replacement CITES document (see § 23.52) | When a CITES document replaces an already issued CITES document that was lost, damaged, stolen, or accidentally destroyed: (i) If a newly issued CITES document, indication it is a “replacement,” the number and date of issuance of the CITES document that was replaced, and reason for replacement. (ii) If a copy of the original CITES document, indication it is a “replacement” and a “true copy of the original,” a new original signature of the issuing Management Authority, the date signed, and reason for replacement.
(8) Partially completed documents (see § 23.51) | (i) A list of the blocks that must be completed by the permit holder. (ii) If the list includes scientific names, an inventory of approved species must be included on the face of the CITES document or in an attached annex. (iii) A signature of the permit holder, which acts as a certification that the information entered is true and accurate.
(9) Pre-Convention document (see § 23.45) | (i) An indication on the face of the CITES document that the specimen is pre-Convention. (ii) A date that shows the specimen was acquired before the date the Convention first applied to it.
(10) Re-export certificate (see § 23.37) | (i) The country of origin, the export permit number, and the date of issue. (ii) If previously re-exported, the country of last re-export, the re-export certificate number, and the date of issue. (iii) If all or part of this information is not known, a justification must be given.
(11) Retrospective CITES document (see § 23.53) | A clear statement that the CITES document is issued retrospectively and the reason for issuance.
(12) Sample collection covered by an ATA carnet (see § 23.50) | (i) A statement that the document covers a sample collection and is invalid unless accompanied by a valid ATA carnet. (ii) The number of the accompanying ATA carnet either recorded by the Management Authority, customs, or other responsible CITES inspecting official.

§ 23.24 [Corrected]

12. On page 20230, in § 23.24, the first table is being reprinted in its entirety to read as follows:

Source of specimen | Code
(a) Artificially propagated plant (see § 23.40):
(1) An Appendix-II or -III artificially propagated specimen. | A
(2) An Appendix-I plant specimen artificially propagated for noncommercial purposes or certain Appendix-I hybrids (see § 23.42) propagated for commercial purposes.
(b) Bred-in-captivity wildlife (see § 23.41): | C
(1) An Appendix-II or -III specimen bred-in-captivity. (See paragraph (d)(1) of this section for wildlife that does not qualify as bred-in-captivity.)
(2) An Appendix-I specimen bred for noncommercial purposes. (See paragraph (c)(1) of this section for an Appendix-I specimen bred for commercial purposes.)
(c) Bred-in-captivity or artificially propagated for commercial purposes (see §§ 23.46 and 23.47): | D
(1) An Appendix-I wildlife specimen bred-in-captivity for commercial purposes at an operation registered with the Secretariat.
(2) An Appendix-I plant specimen artificially propagated for commercial purposes at a nursery that is registered with the Secretariat or a commercial propagating operation that meets the requirements of § 23.47.
(d) Captive-bred wildlife (§ 23.36): | F
(1) An Appendix-II or -III species that is captive-bred.
(2) An Appendix-I species that is one of the following:
(i) Captive-bred.
(ii) Bred for commercial purposes, but the commercial breeding operation was not registered with the Secretariat.
(iii) Bred for noncommercial purposes, but the facility does not meet the definition in § 23.5 because it was not involved in a cooperative conservation program.
(e) Confiscated or seized specimen (see § 23.78). | I
(f) Pre-Convention specimen (see § 23.45) (code to be used in conjunction with another code). | O
(g) Ranched wildlife (wildlife that originated from a ranching operation). | R
(h) Source unknown (must be justified on the face of the CITES document). | U
(i) Specimen taken from the wild: | W
(1) For wildlife, this includes a specimen born in captivity from an egg collected from the wild or from wildlife that mated or exchanged genetic material in the wild.
(2) For a plant, it includes a specimen propagated from a propagule collected from a wild plant, except as provided in § 23.64.

§ 23.25 [Corrected]

13. On the same page, in § 23.25, the second table is being reprinted in its entirety to read as follows:

Activity by a non-party | Certification
(1) Export | (i) The Scientific Authority has advised that the export will not be detrimental to the survival of the species. (ii) The Management Authority is satisfied that the specimen was legally acquired.
(2) Import | The import will be for purposes that are not detrimental to the survival of the species.

§ 23.26 [Corrected]

14. On page 20231, in § 23.26, the table is being reprinted in its entirety to read as follows:

Key phrase | Conditions for an acceptable CITES document
(1) Altered or modified CITES document | The CITES document has not been altered (including by rubbing or scratching out), added to, or modified in any way unless the change is validated on the document by the stamp and signature of the issuing Management Authority, or if the document was issued as a partially completed document, the Management Authority lists on the face of the document which blocks must be completed by the permit holder.
(2) CITES document | U.S. and foreign CITES documents must meet the general provisions and criteria in subparts C and E.
(3) Conditions | All conditions on the CITES document are met.
(4) Extension of validity | The validity of a CITES document may not be extended except as provided in § 23.73 for certain timber species.
(5) Fraudulent CITES document or CITES document containing false information | The CITES document is authentic and does not contain erroneous or misleading information.
(6) Humane transport | Live wildlife or plants were transported in compliance with the CITES Guidelines for Transport or, in the case of air transport of wildlife, the International Air Transport Association Live Animals Regulations.
(7) Management Authority and Scientific Authority | The CITES document was issued by a Party or non-Party that has designated a Management Authority and Scientific Authority and has provided information on these authorities to the Secretariat.
(8) Name of importer and exporter | A CITES document is specific to the name on the face of the document and may not be transferred or assigned to another person.
(9) Phytosanitary certificate | A phytosanitary certificate can be used to export artificially propagated plants only if the issuing Party has provided copies of the certificates, stamps, and seals to the Secretariat.
(10) Registered commercial breeding operation for Appendix-I wildlife | (i) The operation is in the Secretariat's register. (ii) Each specimen is specifically marked, and the mark is described on the CITES document.
(11) Registered commercial nursery for Appendix-I plants | The operation is included in the Secretariat's register.
(12) Retrospective CITES documents | A CITES document was not issued retrospectively except as provided in § 23.53.
(13) Shipment contents | The contents of the shipment match the description of specimens provided on the CITES document, including the units and species. A shipment cannot contain more or different specimens or species than certified or validated on the CITES document at the time of export or re-export (the quantity of each specimen validated or certified may be less, but not more, than the quantity stated at the time of issuance).
(14) Quota | For species with a quota on file with the Secretariat, the quantity exported from a country does not exceed the quota.
(15) Wild-collected wildlife specimen | A wild-collected wildlife specimen (indicated on the CITES document with a source code of “W”) is not coming from a country that is outside the range of the species, unless we have information indicating that the species has been established in the wild in that country through accidental introduction or other means.

§ 23.27 [Corrected]

15. On page 20232, in § 23.27, the table is being reprinted in its entirety to read as follows:

Type of CITES document | Present original for export or re-export validation or certificaion | Surrender copy upon export or re-export | Surrender original upon import or introduction from the sea
Bred-in-captivity certificate | Required | Required | Required
Certificate for artificially propagated plants | Required | Required | Required
Certificate of origin | Required | Required | Required
Certificate of ownership | Required | Required | Not required; submit copy
Export permit | Required | Required | Required
Hybrid, excluded wildlife hybrid letter | Required ¹ | Required | Not required; submit copy
Import permit | Not required | Required | Required
Introduction-from-the-sea certificate | Not applicable | Not applicable | Required
Multiple-use document | Required ² | Required | Not required; submit copy
Pre-Convention document | Required | Required | Required
Re-export certificate | Required | Required | Required
Registered Appendix-I commercial breeding operation, export permit | Required | Required | Required
Registered Appendix-I nursery, export permit | Required | Required | Required
Registered scientific institution CITES label | Not required ³ | Not required | Not required
Replacement document where a shipment has been made and is in a foreign country | Not required | Not required | Required
Replacement document where a shipment has not left the United States | Required | Required | Required
Retrospective document | Not required | Not required | Required
Sample collection covered by an ATA carnet, CITES document | Required | Required | Not required; submit copy
Traveling exhibition certificate | Required | Required | Not required; submit copy
¹ Certification letter may not require validation.
² Orginal must be available for inspection, but permit conditions will indicate whether an original or copy is to be validated.
³ Original label must be affixed to the package, which must be presented for inspection at the time of export, re-export, or import.

§ 23.34 [Corrected]

16. On pages 20233 and 20234, in § 23.34, the table is being reprinted in its entirety to read as follows:

Source of specimen | Types of records
(1) Captive-bred or cultivated ¹ | (i) Records that identify the breeder or propagator of the specimens that have been identified by birth, hatch, or propagation date and for wildlife by sex, size, band number, or other mark, or for plants by size or other identifying feature: (A) Signed and dated statement by the breeder or propagator that the specimen was bred or propagated under controlled conditions. (B) Name and address of the breeder or propagator as shown by documents such as an International Species Inventory System (ISIS) record, veterinary certificate, or plant nursery license. (ii) Records that document the breeding or propagating of specimens at the facility: (A) Number of wildlife (by sex and age- or size-class) or plants at the facility. (B) How long the facility has been breeding or propagating the species. (C) Annual production and mortalities. (D) Number of specimens sold or transferred annually. (E) Number of specimens added from other sources annually. (F) Transaction records with the date, species, quantity of specimens, and name and address of seller. (G) Marking system, if applicable. (H) Photographs or video of facility, including for wildlife any activities during nesting and production and rearing of young, and for plants, different stages of growth.
(2) Confiscated or seized | Copy of remission decision, legal settlement, or disposal action after forfeiture or abandonment that demonstrates the applicant's legal possession.
(3) Exempt plant material | Records that document how you obtained the exempt plant material, including the name and address of the person from whom you received the plant material.
(4) Imported previously | (i) A copy of the cancelled CITES document that accompanied the shipment into the United States. (ii) For wildlife, copies of a cleared Declaration for Importation or Exportation of Fish or Wildlife (Form 3-177) for each shipment.
(5) Pre-Convention | Records that show the specimen was acquired before the date the provisions of the Convention first applied to it, such as: (i) Receipt or invoice. (ii) Catalog, inventory list, photograph, or art book. (iii) Statement from a qualified appraiser attesting to the age of a manufactured product. (iv) CBP (formerly U.S. Customs Service) import documents. (v) Phytosanitary certificate. (vi) Veterinary document or breeding or propagation logs.
(6) Sequential ownership or purchase | (i) Records that specifically identify the specimen, give the name and address of the owner, and show the specimen's origin (pre-Convention, previously imported, wild-collected, or born or propagated in a controlled environment in the United States). (ii) Records that document the history of all transfers in ownership (generally not required for pre-Convention specimens).
(7) Unknown origin, for noncommercial purposes | A complete description of the circumstances under which the specimen was acquired (where, when, and from whom the specimen was acquired), including efforts made to obtain information on the origin of the specimen.
(8) Wild-collected | Records, such as permits, licenses, and tags, that demonstrate the specimen or the parental stock was legally removed from the wild under relevant foreign, Federal, tribal, State, or local wildlife or plant conservation laws or regulations: (i) If taken on private or tribal land, permission of the landowner if required under applicable law. (ii) If taken in a national, State, or local park, refuge, or other protected area, permission from the applicable agency, if required.
¹ If the wildlife was born in captivity from an egg collected from the wild or from parents that mated or exchanged genetic material in the wild, or the plant was propagated from a propagule collected from a wild plant, see paragraph (b)(8) of this section.

§ 23.35 [Corrected]

17. On page 20234, in § 23.35, the second table is being reprinted in its entirety to read as follows:

Type of application for an import permit for an Appendix-I specimen | Form No.
(1) CITES:
Southern African Leopard, African Elephant, and Namibian Southern White Rhinoceros Sport-hunted Trophies | 3-200-19
Appendix-I Plants | 3-200-35
Appendix-I Wildlife | 3-200-37
Appendix-I Biological Samples | 3-200-29
(2) Endangered Species Act and CITES:
ESA Plants | 3-200-36
ESA Sport-hunted Trophies | 3-200-20
ESA Wildlife | 3-200-37
(3) Marine Mammal Protection Act and CITES:
Marine Mammals | 3-200-43
(4) Wild Bird Conservation Act and CITES:
Personal Pet Bird | 3-200-46
Under an Approved Cooperative Breeding Program | 3-200-48
Scientific Research or Zoological Breeding/Display | 3-200-47

18. On the same page, in the same section, the third table is being reprinted in its entirety to read as follows:

Criteria for an import permit for an Appendix-I specimen | Section
(1) The proposed import would be for purposes that are not detrimental to the survival of the species. | 23.61
(2) The specimen will not be used for primarily commercial purposes. | 23.62
(3) The recipients are suitably equipped to house and care for any live wildlife or plant to be imported. | 23.65
(4) The scientific name of the species is the standard nomenclature in the CITES Appendices or the references adopted by the CoP. | 23.23

§ 23.36 [Corrected]

19. On page 20235, in § 23.36, the first table is being reprinted in its entirety to read as follows:

Type of application for an export permit | Form No.
(1) CITES:
American Ginseng | 3-200-34
Appendix-I Plants Artificially Propagated for Commercial Purposes | 3-200-33
Biological Specimens | 3-200-29
Captive-born Raptors | 3-200-25
Captive-born Wildlife (except raptors) | 3-200-24
Export of Skins/Products of Bobcat, Canada Lynx, River Otter, Brown Bear, Gray Wolf, and American Alligator Taken under an Approved State or Tribal Program | 3-200-26
Personal Pets, One-time Export | 3-200-46
Plants | 3-200-32
Registration of a Native Species Production Facility | 3-200-75
Single-use Permits under a Master File or an Annual Program File | 3-200-74
Trophies by Taxidermists | 3-200-28
Wildlife, Removed from the Wild | 3-200-27
(2) Endangered Species Act and CITES:
ESA Plants | 3-200-36
ESA Wildlife | 3-200-37
(3) Marine Mammal Protection Act and CITES:
Biological Samples | 3-200-29
Live Captive-held Marine Mammals | 3-200-53
Take from the Wild for Export | 3-200-43

20. On the same page, in the same section, the second table is being reprinted in its entirety to read as follows:

Criteria for an export permit | Appendix of the specimen: I | Appendix of the specimen: II | Appendix of the specimen: III | Section
(1) The wildlife or plant was legally acquired. | Yes | Yes | Yes | 23.60
(2) The proposed export would not be detrimental to the survival of the species. | Yes | Yes | n/a | 23.61
(3) An import permit has already been issued or the Management Authority of the importing country has confirmed that it will be issued. | Yes | n/a | n/a | 23.35
(4) The scientific name of the species is the standard nomenclature in the CITES Appendices or the references adopted by the CoP. | Yes | Yes | Yes | 23.23
(5) Live wildlife or plants will be prepared and shipped so as to minimize risk of injury, damage to health, or cruel treatment of the specimen. | Yes | Yes | Yes | 23.23
(6) The specimen originated in a country that listed the species. | n/a | n/a | Yes | 23.20
(7) For wildlife with the source code “W” or “F,” the export is for noncommercial purposes. (See § 23.46 for the export of specimens that originated at an Appendix-I commercial breeding operation that is registered with the Secretariat.) | Yes | n/a | n/a |

§ 23.37 [Corrected]

21. On page 20236, in § 23.37, the first table is being reprinted in its entirety to read as follows:

Type of application for a re-export certificate | Form No.
(1) CITES:
Biological Specimens | 3-200-29
Plants | 3-200-32
Single-use Permits under a Master File or an Annual Program File | 3-200-74
Trophies by Taxidermists | 3-200-28
Wildlife | 3-200-73
(2) Endangered Species Act and CITES:
ESA Plants | 3-200-36
ESA Wildlife | 3-200-37
(3) Marine Mammal Protection Act and CITES:
Biological Samples | 3-200-29
Live Captive-held Marine Mammals | 3-200-53

22. On the same page, in the same section, the second table is being reprinted in its entirety to read as follows:

Criteria for a re-export certificate | Appendix of the specimen: I | Appendix of the specimen: II | Appendix of the specimen: III | Section
(1) The wildlife or plant was legally acquired. | Yes | Yes | Yes | 23.60
(2) The scientific name of the species is the standard nomenclature in the CITES Appendices or the references adopted by the CoP. | Yes | Yes | Yes | 23.23
(3) For a live specimen, an import permit has already been issued or the Management Authority of the importing country has confirmed that it will be issued. This criterion does not apply to a specimen with the source code “D.” | Yes | n/a | n/a | 23.35
(4) Live wildlife or plants will be prepared and shipped so as to minimize risk of injury, damage to health, or cruel treatment of the specimen. | Yes | Yes | Yes | 23.23
(5) For re-export of a confiscated specimen, the proposed re-export would not be detrimental to the survival of the species. | Yes | Yes | n/a | 23.61
(6) For wildlife with the source code “W” or “F,” the re-export is for noncommercial purposes. | Yes | n/a | n/a |

§ 23.39 [Corrected]

23. On page 20237, in § 23.39, the table is being reprinted in its entirety to read as follows:

Criteria for an introduction-from-the-sea certificate | Appendix of the specimen: I | Appendix of the specimen: II | Section
(1) The specimen was taken in the marine environment not under the jurisdiction of any country. | Yes | Yes
(2) The proposed introduction from the sea would not be detrimental to the survival of the species. | Yes | Yes | 23.61
(3) The specimen will not be used for primarily commercial purposes. | Yes | n/a | 23.62
(4) The recipients are suitably equipped to house and care for live wildlife or plants. | Yes | n/a | 23.65
(5) The scientific name of the species is the standard nomenclature in the CITES Appendices or the references adopted by the CoP. | Yes | Yes | 23.23
(6) Live wildlife or plants will be prepared and shipped so as to minimize risk of injury, damage to health, or cruel treatment of the specimen. | Yes | Yes | 23.23

§ 23.40 [Corrected]

24. On page 20238, in § 23.40, the first table is being reprinted in its entirety to read as follows:

Criteria for a certificate for artificially propagated plants | Appendix of the specimen: I | Appendix of the specimen: II | Appendix of the specimen: III | Section
(1) The plant was artificially propagated. | Yes | Yes | Yes | 23.64
(2) The plant specimen is one of the following: | Yes | n/a | n/a
(i) Was propagated for noncommercial purposes.
(ii) Is part of a traveling exhibition.
(iii) Is a hybrid of one or more Appendix-I species or taxa that is not annotated to include hybrids in the listing and was propagated for commercial or noncommercial purposes.
(3) The scientific name of the species is the standard nomenclature in the CITES Appendices or the references adopted by the CoP. | Yes | Yes | Yes | 23.23
(4) The live plant will be prepared and shipped so as to minimize risk of injury, damage to health, or cruel treatment of the specimen. | Yes | Yes | Yes | 23.23

§ 23.41 [Corrected]

25. On the same page, in § 23.41, the second table is being reprinted in its entirety to read as follows:

Criteria for a bred-in-captivity certificate | Appendix of the specimen: I | Appendix of the specimen: II | Appendix of the specimen: III | Section
(1) The wildlife was bred-in-captivity. | Yes | Yes | Yes | 23.63
(2) The wildlife specimen was bred for noncommercial purposes or is part of a traveling exhibition. | Yes | n/a | n/a | 23.5
(3) The scientific name of the species is the standard nomenclature in the CITES Appendices or the references adopted by the CoP. | Yes | Yes | Yes | 23.23
(4) Live wildlife will be prepared and shipped so as to minimize risk of injury, damage to health, or cruel treatment of the specimen. | Yes | Yes | Yes | 23.23

§ 23.42 [Corrected]

26. On pages 20238 and 20239, in § 23.42, the table beginning at the bottom of page 20238 is being reprinted in its entirety to read as follows:

Question on a plant hybrid | Answer and status of specimen
(a) Is the specimen an artificially propagated hybrid of one or more Appendix-I species or taxa? | (1) YES. Continue to paragraph (b) of this section. (2) NO. Continue to paragraph (c) of this section.
(b) Is one or more of the Appendix-I species or taxa in paragraph (a) of this section annotated to include hybrids? | (1) YES. The hybrid is listed in Appendix I. (2) NO. The hybrid is listed in Appendix I, but may be granted a certificate for artificially propagated plants even if propagated for commercial purposes.
(c) Is the specimen a hybrid that includes two or more CITES species or taxa in its lineage? | (1) YES. Consider the specimen to be listed in the more restrictive Appendix, with Appendix I being the most restrictive and Appendix III the least. (2) NO. Continue to paragraph (d) of this section.
(d) Is the specimen a hybrid that includes one CITES species or taxon in its lineage? | (1) YES. Consider the specimen to be listed in the Appendix in which the species or taxon is listed in the CITES Appendices. (2) NO. The hybrid is not regulated by CITES.

§ 23.43 [Corrected]

27. On page 20239, in § 23.43, the second table is being reprinted in its entirety to read as follows:

If at least one specimen in the recent lineage is listed in: | Then the specimen is listed in:
(1) Appendix I | Appendix I
(2) Appendix II, and an Appendix-I species is not included in the recent lineage | Appendix II
(3) Appendix III, and an Appendix-I or -II species is not included in the recent lineage | Appendix III

§ 23.46 [Corrected]

28. On page 20241, in § 23.46, the first table is being reprinted in its entirety to read as follows:

Criteria for registering an Appendix-I breeding operation | Section
(1) The operation breeds wildlife for commercial purposes. | 23.5
(2) The parental stock was legally acquired. | 23.60
(3) The wildlife meets bred-in-captivity criteria. | 23.63
(4) Where the establishment of a breeding operation involves the removal of animals from the wild (allowable only under exceptional circumstances), the operation must demonstrate to the satisfaction of the Management Authority on advice of the Scientific Authority and of the Secretariat that the removal is or was not detrimental to the conservation of the species. |
(5) The potential escape of specimens or pathogens from the facility may not pose a risk to the ecosystem and native species. |
(6) The scientific name of the species is the standard nomenclature in the CITES Appendices or the references adopted by the CoP. | 23.23
(7) The breeding operation will make a continuing, meaningful contribution to the conservation of the species, as warranted by the conservation needs of the species. |
(8) The operation will be carried out at all stages in a humane (non-cruel) manner. |

29. On the same page, in the same section, the second table is being reprinted in its entirety to read as follows:

Criteria for an export permit | Section
(1) The specimen was bred at an Appendix-I breeding operation that is registered with the CITES Secretariat. | 23.46
(2) The proposed export would not be detrimental to the survival of the species. | 23.61
(3) Live wildlife will be prepared and shipped so as to minimize risk of injury, damage to health, or cruel treatment of the specimen. | 23.23

§ 23.47 [Corrected]

30. On page 20242, in § 23.47, the table is being reprinted in its entirety to read as follows:

Criteria for an export permit | Section
(1) The specimen was propagated for commercial purposes. | 23.5
(2) The parental stock was legally acquired. | 23.60
(3) The proposed export would not be detrimental to the survival of the species. | 23.61
(4) The plant was artificially propagated. | 23.64
(5) The scientific name of the species is the standard nomenclature in the CITES Appendices or the references adopted by the CoP. | 23.23
(6) The live plant will be prepared and shipped so as to minimize risk of injury, damage to health, or cruel treatment of the specimen. | 23.23

§ 23.52 [Corrected]

31. On page 20245, in § 23.52, the table is being reprinted in its entirety to read as follows:

If | Then
(i) The shipment has already occurred | Provide copies of: (A) Any correspondence you have had with the shipper or importing country's Management Authority concerning the shipment. (B) For wildlife, the validated CITES document and cleared Declaration for Importation or Exportation of Fish or Wildlife (Form 3-177). (C) For plants, the validated CITES document.
(ii) The original CITES document no longer exists | Submit a signed, dated, and notarized statement that: (A) Provides the CITES document number and describes the circumstances that resulted in the loss or destruction of the original CITES document. (B) States whether the shipment has already occurred. (C) Requests a replacement U.S. CITES document.
(iii) An original CITES document exists but has been damaged | Submit the original damaged CITES document and a signed, dated, and notarized statement that: (A) Describes the circumstances that resulted in the CITES document being damaged. (B) States whether the shipment has already occurred. (C) Requests a replacement U.S. CITES document.

§ 23.55 [Corrected]

32. On pages 20246 and 20247, in § 23.55, the table is being reprinted in its entirety to read as follows:

If the species is listed in | Allowed use after import
(a) Appendix I except for specimens imported with a CITES exemption document listed in paragraph (d) of this section. (b) Appendix II with an annotation for noncommercial use where other specimens of that species are treated as listed in Appendix I. (c) Appendix II and threatened under the ESA, except as provided in a special rule in §§ 17.40 through 17.48 or under a permit granted under §§ 17.32 or 17.52. | The specimen may be used, including a transfer, donation, or exchange, only for noncommercial purposes.
(d) Appendix I, specimens imported with a CITES exemption document as follows: (1) U.S.-issued certificate for personally owned wildlife. (2) Pre-Convention certificate. (3) Export permit or re-export certificate for wildlife from a registered commercial breeding operation. (4) Export permit or re-export certificate for a plant from a registered nursery or under a permit with a source code of “D.” (5) U.S.-issued traveling-exhibition certificate. (e) Appendix II, other than those in paragraphs (b) and (c) of this section. (f) Appendix III. | The specimen may be used for any purpose, except if the regulations in this part or other parts of this subchapter allowed the import only for noncommercial purposes, then the import and subsequent use must be only for noncommercial purposes.

[FR Doc. C6-3444 Filed 5-1-06; 8:45 am]

BILLING CODE 1505-01-D